DEPARTMENT OF JUSTICE

Drug Enforcement Administration

Sasha Melissa Ikramelahai; Decision and Order

On January 22, 2025, the Drug Enforcement Administration (DEA or Government) issued an Order to Show Cause (OSC) to Sasha Melissa Ikramelahai of Southern Pines, North Carolina (Registrant). Request for Final Agency Action (RFAA), Exhibit (RFAAX) 1, at 1, 5. The OSC proposed the revocation of Registrant's DEA registration, No. MI8411061, alleging that she currently lacks state authority to handle controlled substances in North Carolina and that she materially falsified her application for registration. Id. (citing 21 U.S.C. 824(a)(1), 824(a)(3)).

On March 27, 2025, the Government submitted an RFAA to the Administrator requesting that the Agency issue a default final order revoking Registrant's registration. RFAA, at 1, 3, 6-7. After carefully reviewing the entire record and conducting the analysis as set forth in detail below, the Agency finds that Registrant is in default, finds that Registrant is without state authority, and finds that Registrant materially falsified her application. Accordingly, the Agency grants the Government's RFAA and revokes Registrant's registration.

I. Default Determination

Under 21 CFR 1301.43, a registrant entitled to a hearing who fails to file a timely hearing request “within 30 days after the date of receipt of the [OSC] . . . shall be deemed to have waived their right to a hearing and to be in default” unless “good cause” is established for the failure. 21 CFR 1301.43(a), (c)(1). In the absence of a demonstration of good cause, a registrant who fails to timely file an answer also is “deemed to have waived their right to a hearing and to be in default.” 21 CFR 1301.43(c)(2). Unless excused, a default constitutes “an admission of the factual allegations of the [OSC].” 21 CFR 1301.43(e).

The OSC notified Registrant of her right to file a written request for hearing and answer, and that if she failed to file such a request and answer, she would be deemed to have waived her right to a hearing and be in default.¹ RFAAX 1, at 3-4 (citing 21 CFR 1301.43). Here, Registrant did not request a hearing, file an answer, or respond to the OSC in any way. RFAA, at 1-2, 6. Accordingly, Registrant is in default. 21 CFR 1301.43(c)(1); RFAA, at 1, 3, 6.

¹ Based on the Government's submissions in its RFAA dated March 27, 2025, the Agency finds that service of the OSC on Registrant was adequate. Specifically, the Declaration from a DEA Diversion Investigator (DI) indicates that on January 24, 2025, DIs attempted to serve the OSC on Registrant at her home address. RFAAX 2, at 1. The DIs were met by Registrant's mother, who told them that Registrant did not live at that address. Id. On January 27, 2025, DI attempted to serve the OSC to several email addresses associated with Registrant. Id. at 2. Service by email was successful as DI received an email delivery receipt from Registrant's registered email address. Id. Additionally, on February 6, 2025, DI attempted to serve the OSC on Registrant by USPS Certified Mail at her registered address, but the mail was returned to sender. Id. On February 7, 2025, DI attempted to reach Registrant by phone at her registered employer, but was told by the clinic's CEO that she no longer worked there. Id. Based on these multiple attempts at service that were “reasonably calculated” to notify her of the OSC, and the fact that DI received an email delivery receipt from Registrant's registered email address, the Agency finds that due process notice requirements have been satisfied. See Jones v. Flowers, 547 U.S. 220, 226 (2006) (quoting Mullane v. Cent. Hanover Bank & Trust Co., 339 U.S. 306, 314 (1950)); Mohammed S. Aljanaby, M.D., 82 FR 34,552, 34,552 (2017) (finding that service by email satisfies due process where the email is not returned as undeliverable and other methods have been unsuccessful); Emilio Luna, M.D., 77 FR 4,829, 4,830 (2012) (concluding that “the use of email to serve Registrant satisfied due process because service was made to an email address which Registrant provided to the Agency and the Government did not receive back either an error or undeliverable message”).

“A default, unless excused, shall be deemed to constitute a waiver of the [registrant's] right to a hearing and an admission of the factual allegations of the [OSC].” 21 CFR 1301.43(e). Because Registrant is in default and has not moved to excuse the default, the Agency finds that Registrant has admitted to the factual allegations in the OSC. 21 CFR 1301.43(c)(1), (e), (f)(1).

Further, “[i]n the event that [a registrant] . . . is deemed to be in default . . . DEA may then file a request for final agency action with the Administrator, along with a record to support its request. In such circumstances, the Administrator may enter a default final order pursuant to [21 CFR] 1316.67.” 21 CFR 1301.43(f)(1). Here, the Government has requested final agency action based on Registrant's default pursuant to 21 CFR 1301.43(c), (f), and 1301.46. RFAA, at 1, 3, 6; see also 21 CFR 1316.67.

II. Lack of State Authority

A. Findings of Fact

The Agency finds that, in light of Registrant's default, the factual allegations in the OSC are deemed admitted. 21 CFR 1301.43(e). Accordingly, Registrant is deemed to have admitted, in accordance with the OSC, that on July 9, 2024, the North Carolina Medical Board (NCMB) annulled Registrant's physician assistant license. RFAAX 1, at 3. Specifically, the NCMB annulled Registrant's physician assistant license based on findings that (a) she engaged in immoral or dishonorable conduct; (b) made false statements or representations to the NCMB; (c) engaged in unprofessional conduct by fraudulently obtaining and using the identity, credentials, experience, and licensing information of someone else in false representations and forged documents; and (d) obtained or attempted to obtain a practice, money, or anything of value by false representations. Id.

According to North Carolina online records, of which the Agency takes official notice, Registrant's physician assistant license is in an “Inactive” status.² North Carolina Medical Board License Verification Search, https://portal.ncmedboard.org/verification/search.aspx (last visited date of signature of this Order). Accordingly, the Agency finds that Registrant is not licensed as a physician assistant in North Carolina, the state in which she is registered with DEA.³

² Under the Administrative Procedure Act, an agency “may take official notice of facts at any stage in a proceeding—even in the final decision.” United States Department of Justice, Attorney General's Manual on the Administrative Procedure Act 80 (1947) (Wm. W. Gaunt & Sons, Inc., Reprint 1979).

³ Pursuant to 5 U.S.C. 556(e), “[w]hen an agency decision rests on official notice of a material fact not appearing in the evidence in the record, a party is entitled, on timely request, to an opportunity to show the contrary.” The material fact here is that Registrant, as of the date of this Decision and Order, is not licensed to practice as a physician assistant in North Carolina. Accordingly, Registrant may dispute the Agency's finding by filing a properly supported motion for reconsideration of findings of fact within fifteen calendar days of the date of this Order. Any such motion and response shall be filed and served by email to the other party and to the DEA Office of the Administrator, Drug Enforcement Administration, at dea.addo.attorneys@dea.gov.

B. Discussion

Pursuant to 21 U.S.C. 824(a)(3), the Attorney General may suspend or revoke a registration issued under 21 U.S.C. 823 “upon a finding that the registrant . . . has had his State license or registration suspended . . . [or] revoked . . . by competent State authority and is no longer authorized by State law to engage in the . . . dispensing of controlled substances.” With respect to a practitioner, DEA has also long held that the possession of authority to dispense controlled substances under the laws of the state in which a practitioner engages in professional practice is a fundamental condition for obtaining and maintaining a practitioner's registration. Gonzales v. Oregon, 546 U.S. 243, 270 (2006) (“The Attorney General can register a physician to dispense controlled substances `if the applicant is authorized to dispense . . . controlled substances under the laws of the State in which he practices.' . . . The very definition of a `practitioner' eligible to prescribe includes physicians `licensed, registered, or otherwise permitted, by the United States or the jurisdiction in which he practices' to dispense controlled substances. [21 U.S.C.] 802(21).”). The Agency has applied these principles consistently. See, e.g., James L. Hooper, M.D., 76 FR 71,371, 71,372 (2011), pet. for rev. denied, 481 F. App'x 826 (4th Cir. 2012); Frederick Marsh Blanton, M.D., 43 FR 27,616, 27,617 (1978).⁴

⁴ This rule derives from the text of two provisions of the Controlled Substances Act (CSA). First, Congress defined the term “practitioner” to mean “a physician . . . or other person licensed, registered, or otherwise permitted, by . . . the jurisdiction in which he practices . . . , to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(g)(1). Because Congress has clearly mandated that a practitioner possess state authority in order to be deemed a practitioner under the CSA, DEA has held repeatedly that revocation of a practitioner's registration is the appropriate sanction whenever he is no longer authorized to dispense controlled substances under the laws of the state in which he practices. See, e.g., Hooper, 76 FR at 71,371-72; Sheran Arden Yeats, M.D., 71 FR 39,130, 39,131 (2006); Dominick A. Ricci, M.D., 58 FR 51,104, 51,105 (1993); Bobby Watts, M.D., 53 FR 11,919, 11,920 (1988); Blanton, 43 FR at 27,617.

According to North Carolina statute, “dispense” means “to deliver a controlled substance to an ultimate user or research subject by or pursuant to the lawful order of a practitioner, including the prescribing, administering, packaging, labeling, or compounding necessary to prepare the substance for that delivery.” N.C. Gen. Stat. Ann. § 90-87(8) (West 2025). Further, a “practitioner” means a “physician . . . or other person licensed, registered or otherwise permitted to distribute, dispense, conduct research with respect to or to administer a controlled substance so long as such activity is within the normal course of professional practice or research in this State.” Id. at § 90-87(22)(a).

Here, the undisputed evidence in the record is that Registrant lacks authority to practice as a physician assistant in North Carolina. As discussed above, an individual must be a licensed practitioner to dispense a controlled substance in North Carolina. Thus, because Registrant lacks authority to practice as a physician assistant in North Carolina and, therefore, is not authorized to handle controlled substances in North Carolina, Registrant is not eligible to maintain a DEA registration in that state. Accordingly, the Agency will order that Registrant's DEA registration be revoked.

III. Material Falsification

A. Findings of Fact

The Agency finds that, in light of Registrant's default, the factual allegations in the OSC are deemed admitted. 21 CFR 1301.43(e). Accordingly, Registrant is deemed to have admitted to each of the following facts. On October 27, 2023, Registrant applied for DEA registration as a mid-level practitioner, physician assistant, in Schedules II through V. RFAAX 1, at 2. On October 30, 2023, Registrant was granted DEA registration No. MI8411061. Id.

Prior to applying for DEA registration, Registrant fraudulently used the identity and credentials of another physician assistant to obtain her own North Carolina physician assistant license. Id. Her North Carolina physician assistant license, which she obtained by fraud, was used as a basis for establishing the required state authority to procure her DEA registration. Id. at 2-3.

When Registrant applied for DEA registration, the application requested information regarding the medical/professional school that she attended and the year she graduated. Id. at 2. Registrant responded by stating that she graduated in 2014 from the University of New Mexico, facts that were true of the other physician assistant whose identity Registrant had assumed, but not of Registrant. Id.

The application also asked: “Have you graduated, in good standing, from an accredited school of . . . physician assistant . . . in the United States during the 5-year period immediately preceding the date on which you first submitted a registration or renewal and the curriculum included not less than 8 hours of training?” Id. Registrant answered “yes” to this question. Id.

By signing the application for registration, Registrant represented that the following statement contained on the DEA application was true in regards to her state authority to practice as a physician assistant in North Carolina: “You must be currently authorized to prescribe, distribute, dispense, conduct research, or otherwise handle the controlled substances in the schedules for which you are applying under the laws of the state or jurisdiction in which you are operating or propose to operate.” Id. at 3.

B. Discussion

A DEA registration may be denied, suspended, or revoked upon a finding that the applicant or registrant materially falsified any application filed pursuant to or required by the Controlled Substances Act (CSA). 21 U.S.C. 824(a)(1).⁵ To present a prima facie case for material falsification, the Government's record evidence must show (1) the submission of an application, (2) containing a false statement and/or omitting information that the application requires, (3) when the submitter knew or should have known that the statement is false and/or that the omitted information existed and the application required its disclosure, and (4) the false statement and/or required but omitted information is material, that is, it “connect[s] to at least one of [the section 823] factors that, according to the CSA, [the Administrator] `shall' consider” when analyzing “whether issuing a registration `would be inconsistent with the public interest.'” Frank Joseph Stirlacci, M.D., 85 FR 45,229, 45,238 (2020) (citing 21 U.S.C. 823 and Kungys, 485 U.S. at 771). The Government must establish material falsification with record evidence that is clear, unequivocal, and convincing. Kungys, 485 U.S. at 772; Stirlacci, 85 FR at 45,230-39.

⁵ A statutory basis to deny an application pursuant to section 823 is also a basis to revoke or suspend a registration pursuant to section 824, and vice versa, because doing “otherwise would mean that all applications would have to be granted only to be revoked the next day . . . .” Robert Wayne Locklear, M.D., 86 FR 33,738, 33,744-45 (2021) (collecting cases).

The Supreme Court's decision in Kungys v. United States, 485 U.S. 759 (1988), and its progeny, guide the Agency's implementation of these CSA provisions.

First, the Government must prove that the applicant or registrant submitted an application for registration pursuant to the CSA. 21 U.S.C. 824(a)(1); see also 21 U.S.C. 822 (persons required to register); 21 U.S.C. 823(g)(1) (registration requirements).

Second, the Government must prove that the application contained a false statement or omitted information that the application required, either of which may constitute a material falsity. See, e.g., Emed Medical Company LLC and Med Assist Pharmacy, 88 FR 21,719, 21,720 (2023) (applicant falsely answered “no” to Liability Question 3 on seventeen applications when the true answer was “yes”); Richard J. Settles, D.O., 81 FR 64,940, 64,945-46 (2016) (applicant failed to disclose an interim consent agreement restricting his license based on findings that he issued controlled substance prescriptions without federal or state legal authority to do so). In making this assessment, the Agency will examine the entire application, including registrant's “yes/no” answers to the liability questions and any follow-up response(s). Daniel A. Glick, D.D.S., 80 FR 74,800, 74,802, 74,808-09 (2015). To establish an omission, the Government must show both that omitted information existed and that the application required inclusion of that information. See, e.g., Richard A. Herbert, M.D., 76 FR 53,942, 53,956 (2011) (omission of a probation which the application required to be identified); Michel P. Toret, M.D., 82 FR 60,041, 60,042 (2017) (Voluntary Surrender Form alone is insufficient evidence to find material falsification based on registrant's “no” answer to the question regarding “surrender[s] (for cause)”).

Third, the Government must prove that the applicant or registrant knew or should have known that the statement is false and/or that the omitted information existed and the application required its disclosure. See John J. Cienki, M.D., 63 FR 52,293, 52,295 (1998) (“[I]n finding that there has been a material falsification of an application, it must be determined that the applicant knew or should have known that the response given to the liability question was false.”); Samuel Arnold, D.D.S., 63 FR 8,687, 8,688 (1998) (“It is also undisputed that Respondent knew that his Ohio dental license had previously been suspended.”); Bobby Watts, M.D., 58 FR 46,995, 46,995 (1993) (“Respondent knew that the Tennessee Board of Medical Examiners had suspended his medical license on May 7, 1987, and had placed his state medical license on probation on May 2, 1988.”); see also Stirlacci, 85 FR at 45,236-37 & nn.22-23 (collecting cases).

Fourth, the Government must prove that the false statement and/or required but omitted information is “material.” Kungys holds that a statement is material if it is “predictably capable of affecting, i.e., had a natural tendency to affect, the [Agency's] official decision,” or stated differently, “had a natural tendency to influence the decision.” Kungys, 485 U.S. at 771-72. As already discussed, materiality, for the purposes of the CSA, is tied to the factors that the Administrator “shall” consider when determining whether issuance of a registration “would be inconsistent with the public interest.” 21 U.S.C. 823; Kungys, 485 U.S. at 771-72; Stirlacci, 85 FR at 45,234, 45,238.

The Government has the burden of proof in this proceeding. 21 CFR 1301.44. After evaluating each of the alleged material falsifications, the Agency finds that the Government's record evidence presents a prima facie case that Registrant submitted a materially false application. 21 U.S.C. 823, 824(a)(1).

Here, there is no question that Registrant submitted an application for DEA registration and that the application contained multiple falsities. RFAAX 1, at 2-3. Two such falsities were that Registrant, assuming the identity of a properly licensed practitioner, represented that she attended the University of New Mexico for professional school and graduated in 2014. Id. at 2. Registrant, through her signature, also represented that she was “currently authorized to prescribe, distribute, dispense, conduct research, or otherwise handle the controlled substances in the schedules for which [she was] applying under the laws of the state or jurisdiction in which [she was] operating or propos[ed] to operate.” Id. at 3.

But Registrant's state authorization to handle controlled substances was not obtained pursuant to law—it was obtained by fraud. Registrant, in assuming someone else's identity, certainly knew or should have known that she had not graduated from the University of New Mexico in 2014 as she represented to the NCMB and to DEA. Indeed, the NCMB later found that Registrant's state physician assistant license had been acquired under false pretenses as a result of Registrant representing herself as someone else. Id. Accordingly, the NCMB annulled the license it had issued to Registrant under false pretenses. Id. Thus, Registrant falsified her DEA application by representing that she was authorized to handle controlled substances “under the laws of” North Carolina when she would not have been granted state authority were it not for her fraud. Id.

In addition, the falsification was material. The Agency has consistently held for decades that possessing valid state authority to handle controlled substances is a prerequisite for obtaining a DEA registration.⁶ Thus, whether an applicant possesses valid state authority to handle controlled substances in the state for which the applicant seeks registration is a critical factor DEA must consider when reviewing an application.⁷

⁶ See Joely Keen, A.P.R.N., 90 FR 13,882, 13,883 (2025) (“DEA has . . . long held that the possession of authority to dispense controlled substances under the laws of the state in which a practitioner engages in professional practice is a fundamental condition for obtaining and maintaining a practitioner's registration.”); Blanton, 43 FR at 27,617 (holding that “[s]tate authorization to dispense or otherwise handle controlled substances is a prerequisite to” obtaining and maintaining a DEA registration).

⁷ See 21 U.S.C. 802(21) (defining a “practitioner” as one who is “licensed, registered, or otherwise permitted, by . . . the jurisdiction in which he practices” to handle controlled substances “in the course of professional practice”); 21 U.S.C. 823(g)(1) (“The Attorney General shall register practitioners . . . if the applicant is authorized to dispense . . . controlled substances under the laws of the State in which he practices.”); 21 U.S.C. 824(a)(3) (providing a basis for revoking a registration where the registrant lacks the requisite state authority to dispense controlled substances); Gonzales v. Oregon, 546 U.S. 243, 270 (2006) (“The structure and operation of the CSA presume and rely upon a functioning medical profession regulated under the States' police powers” and explaining registration requirements and the definition of “practitioner”); Hatem M. Ataya, M.D., 81 FR 8,221, 8,244 (2016) (explaining “the possession of state authority is a prerequisite for obtaining a registration”); Hoi Y. Kam, M.D., 78 FR 62,694, 62,696 (2013) (“Because possessing authority to dispense controlled substances under the laws of the State in which a physician practices medicine is a requirement for holding a DEA registration, . . . a false answer to the state license question is material where an applicant no longer holds authority to practice medicine (regardless of the reason for the State's action) or authority to dispense controlled substances . . . .”) (emphasis added).

In Steven Bernhard, D.O., the Agency found that an application was materially false where the applicant falsely represented that he possessed valid state authority to handle controlled substances, when in fact, he did not. 82 FR 23,298, 23,300 (2017). The Agency explained that “[b]ecause the possession of state authority is a prerequisite to obtaining and maintaining a practitioner's registration, Respondent's false representations that he currently possessed a state license . . . [was] capable of influencing the Agency's decision to grant his . . . application.” Id.; see also Thomas G. Easter II, M.D., 69 FR 5,579, 5,580 (2004) (finding that applicant materially falsified an application for registration by falsely representing that “he was `currently authorized to prescribe' controlled substances `under the laws of the State or jurisdiction in which [he was] operating or propos[ed] to operate' ”).

Thus, Registrant's application representing that she possessed state authorization obtained pursuant to law to handle controlled substances directly affected the statutory analysis that DEA was required to make when it reviewed Registrant's application. 21 U.S.C. 802(21), 823(g)(1), 824(a)(3); Gonzales, 546 U.S. at 270; Stirlacci, 85 FR at 45,238; Bernhard, 82 FR at 23,300; Easter, 69 FR at 5,580. Stated differently, Registrant's application led DEA to believe that she possessed valid state authority when, in fact, that state authority was invalid under state law as it had been obtained by fraud. RFAAX 1, at 2-3; Bernhard, 82 FR at 23,300; Easter, 69 FR at 5,580. Thus, her false representation was material because it was “predictably capable of affecting . . . [DEA's] official decision” regarding whether Registrant met “the requirements for” registration. Kungys, 485 U.S. at 771.

In sum, the Agency finds clear, unequivocal, and convincing record evidence, and Registrant is deemed to have admitted, that she submitted a materially false application for registration. 21 U.S.C. 824(a)(1); 21 CFR 1301.43(e).

As a result of this established violation, the Agency finds that the Government has established a prima facie case for sanction, that Registrant did not rebut that prima facie case, and that there is substantial record evidence supporting the revocation of Registrant's registration. 21 U.S.C. 824(a)(1).

C. Sanction

Where, as here, the Government has presented a prima facie case showing that a registrant submitted a materially false application for registration, the burden shifts to Registrant to show why she can be trusted with a registration. Morall v. Drug Enf't Admin., 412 F.3d 165, 181 (D.C. Cir. 2005); Jones Total Health Care Pharmacy, LLC v. Drug Enf't Admin., 881 F.3d 823, 830 (11th Cir. 2018); Garrett Howard Smith, M.D., 83 FR 18,882, 18,904 (2018). The issue of trust is a fact-dependent determination based on the circumstances presented by the individual practitioner. Jeffrey Stein, M.D., 84 FR 46,968, 46,972 (2019); see also Jones Total Health Care Pharmacy, 881 F.3d at 833. Historically, the Agency has considered acceptance of responsibility, egregiousness, and deterrence when making this assessment.

Specifically, the Agency requires the practitioner to accept responsibility for his or her violation. Jones Total Health Care Pharmacy, 881 F.3d at 833; ALRA Labs, Inc. v. Drug Enf't Admin., 54 F.3d 450, 452 (7th Cir. 1995). Acceptance of responsibility must be unequivocal. Janet S. Pettyjohn, D.O., 89 FR 82,639, 82,641 (2024); Mohammed Asgar, M.D., 83 FR 29,569, 29,573 (2018); see also Jones Total Health Care Pharmacy, 881 F.3d at 830-31.

In addition, the Agency considers the egregiousness and extent of the misconduct in determining the appropriate sanction. Jones Total Health Care Pharmacy, 881 F.3d at 834 & n.4. The Agency also considers the need to deter similar acts by Registrant and by future applicants for registration. Stein, 84 FR at 46,972-73.

Here, Registrant did not timely request a hearing, or timely or properly answer the allegations, and was therefore deemed to be in default. 21 CFR 1301.43(c)(1), (e), (f)(1); RFAA, at 1-4. To date, Registrant has not filed a motion with the Office of the Administrator to excuse the default. 21 CFR 1301.43(c)(1). Registrant has thus failed to answer the allegations contained in the OSC and has not otherwise availed herself of the opportunity to refute the Government's case. As such, Registrant has not accepted responsibility for the proven violations, has made no representations regarding her future compliance with the CSA, and has not made any demonstration that she can be trusted with registration.

Moreover, the evidence presented by the Government shows that Registrant misrepresented her qualifications for registration and used another person's identity in order to fraudulently obtain a state professional license, further demonstrating that Registrant cannot be trusted with the responsibilities of holding a controlled substances registration. To permit Registrant to maintain a registration under these circumstances would send a dangerous message that identity theft and fraud are acceptable means of acquiring a DEA registration and that DEA does not require truthfulness from applicants and registrants. Accordingly, the Agency will order the revocation of Registrant's registration.⁸

⁸ In this matter there are two separate and distinct grounds by which the Government proposed revocation, Registrant's lack of state authority and her material falsification; each ground, standing alone, supports the Agency's decision to revoke.

Order

Pursuant to 28 CFR 0.100(b) and the authority vested in me by 21 U.S.C. 824(a), I hereby revoke DEA Certificate of Registration No. MI8411061 issued to Sasha Melissa Ikramelahai. Further, pursuant to 28 CFR 0.100(b) and the authority vested in me by 21 U.S.C. 823(g)(1), I hereby deny any pending applications of Sasha Melissa Ikramelahai to renew or modify this registration, as well as any other pending application of Sasha Melissa Ikramelahai for additional registration in North Carolina. This Order is effective August 15, 2025.

Signing Authority

This document of the Drug Enforcement Administration was signed on July 10, 2025, by Acting Administrator Robert J. Murphy. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-13313 Filed 7-15-25; 8:45 am]

BILLING CODE 4410-09-P